ENVIRONMENTAL PROTECTION AGENCY

[Petition IV-2002-1; FRL-7432-5]

Clean Air Act Operating Permit Program; Petition for Objection to State Operating Permit for Oglethorpe Power Company—Wansley Combined Cycle Energy Facility; Roopville (Heard County), GA

AGENCY: Environmental Protection Agency (EPA).

ACTION: Notice of final order on petition to object to a state operating permit.

SUMMARY: Pursuant to Clean Air Act section 505(b)(2) and 40 CFR 70.8(d), the EPA Administrator signed an order, dated November 15, 2002, denying a petition to object to a state operating permit issued by the Georgia Environmental Protection Division (EPD) to Oglethorpe Power Company—Wansley Combined Cycle Energy Facility (WCCEF) located in Roopville, Heard County, Georgia. This order constitutes final action on the petition submitted by the Georgia Center for Law in the Public Interest (GCLPI) on behalf of the Sierra Club (Petitioner). Pursuant to section 505(b)(2) of the Clean Air Act (the Act) any person may seek judicial review in the United States Court of Appeals for the appropriate circuit within 60 days of this notice under section 307 of the Act.

ADDRESSES: Copies of the final order, the petition, and all pertinent information relating thereto are on file at the following location: EPA Region 4, Air, Pesticides and Toxics Management Division, 61 Forsyth Street, SW., Atlanta, Georgia 30303-8960. The final order is also available electronically at the following address: http://www.epa.gov/region07/programs/artd/air/title5/petitiondb/petitions/ oglethorpewansley_decision2002.pdf.

FOR FURTHER INFORMATION CONTACT: Art Hofmeister, Air Permits Section, EPA Region 4, at (404) 562-9115 or hofmeister.art@epa.gov.

SUPPLEMENTARY INFORMATION: The Act affords EPA a 45-day period to review and, as appropriate, to object to operating permits proposed by state permitting authorities under title V of the Act, 42 U.S.C. 7661-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

GCLPI submitted a petition on behalf of the Sierra Club to the Administrator on February 4, 2002, requesting that EPA object to a state title V operating permit issued by EPD to WCCEF. The Petitioner maintains that the WCCEF permit is inconsistent with the Act because of: (1) The permit's lack of a requirement for a case-by-case maximum achievable control technology determination; (2) the inadequacy of the test method used to determine compliance with a carbon monoxide emission limit; (3) the identification of Georgia Rule 391-3-1-.03(2)(c) as “State Only Enforceable”; (4) the omission of a short-term best available control technology limit covering startup and shutdown periods; and (5) EPD's improper issuance of the permit to a company with other facilities that are operating out of compliance with their respective permits.

On November 15, 2002, the Administrator issued an order denying this petition. The order explains the reasons behind EPA's conclusion that the Petitioner has failed to demonstrate that the WCCEF permit is not in compliance with the requirements of the Act on the grounds raised.

Dated: December 6, 2002.
A. Stanley Meiburg,
Deputy Regional Administrator, Region 4.

[FR Doc. 02-32904 Filed 12-27-02; 8:45 am]

BILLING CODE 6560-50-P